OFFICE OF PERSONNEL MANAGEMENT

[Docket ID: OPM-2024-0011]

Submission for Review: Revision and Consolidation of Two Existing Information Collections Related to Health Benefits Election Forms

AGENCY: Office of Personnel Management.

ACTION: 60-Day notice and request for comments.

SUMMARY: The Office of Personnel Management (OPM) offers the general public and other Federal agencies the opportunity to comment on a revised information collection request (ICR) for two forms: SF 2809 Health Benefits Election Form and OPM 2809 Health Benefits Election Form.

DATES: Comments are encouraged and will be accepted until July 5, 2024.

ADDRESSES: Interested persons are invited to submit written comments on the proposed information collection by one of the following means:

• Federal Rulemaking Portal: http://www.regulations.gov.

All submissions received must include the agency name and docket number for this Federal Register document. The general policy for comments and other submissions from members of the public is to make these submissions available for public viewing on the internet at http://www.regulations.gov without change, including any personal identifiers or contact information.

FOR FURTHER INFORMATION CONTACT: A copy of this information collection request, with applicable supporting documentation, may be obtained by contacting Retirement Services, Office of Personnel Management, 1900 E Street NW, Washington, DC 20415, Attention: Cyrus Benson. You may also contact (202) 936-0401 or email RSPublicationsTeam@opm.gov.

SUPPLEMENTARY INFORMATION: Under the Paperwork Reduction Act (PRA) (44 U.S.C. chapter 35), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA requires Federal agencies to provide a 60-day notice in the Federal Register concerning each proposed collection of information, including each proposed extension of an existing collection of information, before submitting the collection to OMB for approval. This notice complies with that requirement, and OPM is soliciting comments for the ICR described below.

The Federal Employees Health Benefits (FEHB) Program, as governed by 5 U.S.C. chapter 89, provides health insurance to employees and annuitants of the Federal Government. Standard Form 2809 Health Benefits Election Form, OMB Control No. 3206-0160, has long been used by OPM and other Federal agencies to collect the information needed for employees to enroll in and to update enrollment information for the FEHB. OPM is proposing that the SF-2809 be categorized as a “common form.”

The form OPM-2809 Health Benefits Election Form, OMB Control No 3206-0141, is in many respects similar to the SF-2809. The OPM-2809 provides OPM with the information needed for annuitants, survivor annuitants, and former spouses of annuitants in the Civil Service Retirement System (CSRS) and the Federal Employees Retirement System (FERS) to enroll in and to update enrollment information for the FEHB.

The SF-2809 and the OPM-2809 forms are generally very similar in terms of the information collected, with only a few different data points to reflect differences between an employee and an annuitant. Nonetheless, the forms were historically managed under two different information collections. OPM is not currently planning to consolidate the forms into a single form because the instructions for annuitants are different than the instructions for an employee. OPM expects that retaining separate forms helps annuitants better understand what information is required.

OPM anticipates that both forms will generally require revisions at the same time and that comments relevant to one form will generally apply equally to the other form. Therefore, because the forms serve the same purpose (for two different populations) and collect virtually identical information, OPM is proposing to combine the two information collections and to manage the two forms under a single information collection, OMB Control No. 3206-0160, going forward.

The Postal Service Reform Act of 2022 (PSRA; Pub. L. 117-108) created a new Postal Service Health Benefits (PSHB) Program within the Federal Employees Health Benefits (FEHB) Program. As part of the regulatory implementation of the PSHB, OPM requested comment on whether OPM should introduce a separate enrollment form for PSHB. One commenter recommended that OPM update the existing 2809 form rather than introducing a new form for PSHB. OPM is publishing a final rule to implement the PSHB Program elsewhere in this issue of the Federal Register. OPM agrees with the commenter in that rulemaking and is proposing to add one data element to the existing SF-2809 and OPM-2809 forms. Specifically, the forms will request, only for PSHB retirees and family members, information on eligibility for health services from the Indian Health Service and enrollment in health care benefits provided by the Veterans Affairs. OPM is requesting this information because it is necessary to determine Program eligibility for these individuals.

In addition, the Forms have been updated to improve clarity and ease of use. OPM consulted with Agency Benefit Officers, Federal benefit electronic enrollment systems, FEHB insurance carriers and conducted several employee focus groups to determine proposed changes. Some changes to instructions for the SF-2809 form have not been made to the OPM-2809 form to accommodate a larger use of paper forms by the annuitant population.

Finally, as part of the release of the new PSHB Program, OPM will be offering the use of a new online enrollment system. The information collected using the system will be identical to the paper and electronic PDF versions of the SF-2809 and OPM-2809 forms; however, users will be able to enter the information using a series of prompts that provide additional instructions and guidance.

The information collection for form SF-2809 (OMB Control Number 3206-0160) is currently approved with an estimated public burden of 9,000 hours for 18,000 responses. The information collection (OMB Control number 3206-0141) associated with that form is currently approved with an estimated public burden of 11,667 hours for 30,000 responses. As OPM is proposing to combine these information collections, the estimated public burden for the revised information collection is 20,667 hours for 48,000 responses.

The Standard Form 2809 and OPM Form 2809 reflect the minimal critical elements collected across the Federal government to begin an application for enrollment under the FEHB Program (including the PSHB Program) under the authority of 5 U.S.C. chapter 89.

We invite comments that:

1. Evaluate the utility of the changes made to the forms;

2. Evaluate the accuracy of the agency's estimate of the burden of the proposed collection of information, including the validity of the methodology and assumptions used;

3. Suggest ways to enhance the quality, utility, and clarity of the information to be collected; and

4. Suggest ways to minimize the burden of the collection of information on those who are to respond, including through the use of appropriate automated, electronic, mechanical, or other technological collection techniques or other forms of information technology, e.g., permitting electronic submissions of responses.

In particular, OPM requests comment on (a) the proposed changes to form SF-2809, (b) the proposed changes to form OPM-2809, (c) OPM's proposal to collect the SF-2809 and OPM-2809 information for PSHB via the new electronic system, and (d) OPM's proposal to combine the two information collections into a single collection.

Analysis

Agency: Office of Personnel Management.

Title: Health Benefits Election Forms.

OMB Number: 3206-0160.

Frequency: Annually.

Affected Public: Eligible individuals who wish to enroll in FEHB (including Postal Service Health Benefits under FEHB) for the first time or to change an existing enrollment.

Number of Respondents: 48,000.

Estimated Time per Respondent: 30 Minutes.

Total Burden Hours: 20,667.

Office of Personnel Management.
Kayyonne Marston,
Federal Register Liaison.

[FR Doc. 2024-09566 Filed 5-3-24; 8:45 am]

BILLING CODE 6325-64-P